DEPARTMENT OF COMMERCE

National Oceanic and Atmospheric Administration

50 CFR Part 622

RIN 0648-BB58

Fisheries of the Caribbean, Gulf of Mexico and South Atlantic; Snapper-Grouper Fishery Off the Southern Atlantic States; Amendment 18B

AGENCY: National Marine Fisheries Service (NMFS), National Oceanic and Atmospheric Administration (NOAA), Commerce.

ACTION: Notice of availability; request for comments.

SUMMARY: The South Atlantic Fishery Management Council (South Atlantic Council) has submitted Amendment 18B to the Fishery Management Plan (FMP) for the Snapper-Grouper Fishery of the South Atlantic (Amendment 18B) for review, approval, and implementation by NMFS. Management actions in Amendment 18B would: establish a longline endorsement program for the commercial golden tilefish component of the snapper-grouper fishery; establish initial eligibility requirements for a golden tilefish longline endorsement; establish an appeals process; allocate commercial golden tilefish quota among gear groups; establish a procedure for the transfer of golden tilefish endorsements; modify the golden tilefish trip limits; and establish a trip limit for commercial fishermen who do not receive a golden tilefish longline endorsement.

DATES: Written comments must be received no later than 5 p.m., Eastern Time, on December 26, 2012.

ADDRESSES: You may submit comments, identified by “NOAA-NMFS-2012-0177”, by any one of the following methods:

• Electronic Submissions: Submit all electronic public comments via the Federal e-Rulemaking Portal: http://www.regulations.gov. Follow the instructions for submitting comments.

• Mail: Karla Gore, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, enter “NOAA-NMFS-2012-0177” in the search field and click on “search”. After you have located the notice of availability, click on “Submit a Comment” link in that row. This will display the comment web form. You can enter your submitter information (unless you prefer to remain anonymous), and type your comment on the web form. You can also attach additional files (up to 10 MB) in Microsoft Word, Excel, WordPerfect, or Adobe PDF file formats only.

Comments received through means not specified in this notice will not be accepted.

For further assistance with submitting a comment, see the “Commenting” section at http://www.regulations.gov/#!faqs or the Help section at http://www.regulations.gov.

Electronic copies of Amendment 18B may be obtained from the Southeast Regional Office Web site at http://sero.nmfs.noaa.gov/sf/SASnapperGrouperHomepage.htm. Amendment 18B includes a draft environmental assessment, an Initial Regulatory Flexibility Act Analysis, a Regulatory Impact Review, and a Fishery Impact Statement.

FOR FURTHER INFORMATION CONTACT: Karla Gore, telephone: 727-824-5305; email: Karla.Gore@noaa.gov.

SUPPLEMENTARY INFORMATION: The Magnuson-Stevens Fishery Conservation and Management Act (Magnuson-Stevens Act) requires each regional fishery management council to submit any fishery management plan or amendment to NMFS for review and approval, partial approval, or disapproval. The Magnuson-Stevens Act also requires that NMFS, upon receiving a plan or amendment, publish an announcement in the Federal Register notifying the public that the plan or amendment is available for review and comment.

Background

Recent amendments to the FMP have imposed more restrictive harvest limitations on snapper-grouper fishermen. In an effort to identify other species to harvest, more fishermen may target golden tilefish. Increased effort for golden tilefish would intensify the “race to fish” that already exists, which has resulted in a shortened fishing season for the last 6 years. The longline endorsement program would limit participation and reduce overcapacity in the commercial golden tilefish component of the snapper-grouper fishery; thereby easing derby conditions, which have occurred in recent years.

The South Atlantic Council has submitted Amendment 18B to NMFS for agency review under procedures of the Magnuson-Stevens Act. The South Atlantic Council approved the amendment during its June 2012 meeting.

Management Measures Contained in This Amendment

Longline Endorsement Program for Golden Tilefish

This amendment would establish a longline endorsement program for the commercial golden tilefish component of the snapper-grouper fishery. The endorsement program is expected to limit participation to achieve optimum yield and reduce excess capacity in the fishery. Amendment 18B would establish eligibility criteria for the endorsement program based on golden tilefish landings using longline gear averaging at least 5,000 lb (2,268 kg), gutted weight, for an individual's best 3 fishing years within the period 2006 through 2011. This would reduce the number of potential participants who would qualify for an endorsement to 23.

Establish an Appeals Process

The amendment would establish an appeals process for fishermen who might have been incorrectly excluded from receiving a golden tilefish longline endorsement. The appeals process would set aside a period of 90 days to accept appeals to the golden tilefish endorsement program starting on the effective date of the final rule. The National Appeals Office would review, evaluate, and render recommendations on appeals to the Regional Administrator (RA). The RA would review, evaluate, and render a decision on each appeal. Hardship arguments would not be considered. The outcome of appeals would be based on NMFS' logbooks. If NMFS' logbooks are not available, state landings records would be used. Appellants would have to submit NMFS' logbooks or state landings records to support their appeal.

Allocate Commercial Golden Tilefish Quota Among Gear Groups

The amendment would allocate the golden tilefish commercial annual catch limit (ACL) between the longline and hook-and-line components. Seventy-five percent of the ACL, or 405,971 lb (184,145 kg), gutted weight, would be allocated to the longline component and 25 percent of the ACL, or 135,324 lb (61,382 kg), gutted weight, would be allocated to the hook-and-line component.

Allow for Transferability of Golden Tilefish Endorsements

The amendment would establish a procedure to transfer golden tilefish endorsements. A valid (not expired) golden tilefish endorsement or a renewable (expired but renewable) golden tilefish endorsement would be able to be transferred between any two individuals or entities that hold, or simultaneously obtain, a South Atlantic Unlimited Snapper-Grouper Permit.

Modify the Golden Tilefish Trip Limits

Currently, the trip limit is 4,000 lb (1,814 kg), gutted weight, for the commercial sector. If 75 percent of the ACL is reached before September 1 of the fishing year, the trip limit is reduced to 300 lb (136 kg), gutted weight. The step-down trip limit was originally intended to allow hook-and-line fishermen access to golden tilefish in the fall. In recent years, a derby fishery has developed for golden tilefish and the ACL has been met so rapidly that the 300-lb (136-kg), gutted weight, trip limit has not been triggered. Therefore, the 300-lb (136-kg), gutted weight, trip limit is not having the expected effect of extending the fishing season. Moreover, having separate allocations and ACLs for longline and hook-and-line gear makes the 300-lb (136-kg), gutted weight, trip limit unnecessary. The amendment would eliminate the step-down trip limit and the commercial trip limit of 4,000 lb (1,814 kg), gutted weight, would remain. Hook-and-line fishermen would still be able to harvest golden tilefish under the hook-and-line ACL.

Establish Trip Limits for Fishermen who do not Receive a Golden Tilefish Longline Endorsement

The amendment would establish a trip limit of 500 lb (227 kg), gutted weight, for the golden tilefish component of the snapper-grouper fishery for commercial fishermen who do not receive a longline endorsement. Vessels with golden tilefish longline endorsements would not be eligible to fish under this trip limit with other gear (i.e., hook-and-line). Proposed Rule for Amendment 18B

NMFS proposes a rule that would implement management measures outlined in the Amendment 18B. In accordance with the Magnuson-Stevens Act, NMFS is evaluating the proposed rule to determine whether it is consistent with the FMP, the Magnuson-Stevens Act, and other applicable law. If that determination is affirmative, NMFS will publish the proposed rule in the Federal Register for public review and comment.

Consideration of Public Comments

Comments received by December 26, 2012, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: October 23, 2012.
James P. Burgess,
Acting Deputy Director, Office of Sustainable Fisheries, National Marine Fisheries Service.

[FR Doc. 2012-26418 Filed 10-25-12; 8:45 am]

BILLING CODE 3510-22-P